DEPARTMENT OF ENERGY

Federal Energy Regulatory Commission

[Docket No. CP11-42-000]

Dominion Transmission, Inc; Notice of Application

December 7, 2010.

Take notice that on November 23, 2010, Dominion Transmission, Inc. (DTI), 120 Tredegar Street, Richmond, Virginia 23219, filed in Docket No. CP11-42-000 an application pursuant to section 7(b) of the Natural Gas Act and Part 157 the Commission's Rules and Regulations for all the necessary authorizations required to refunctionalize its existing Line No. TL-404, a 26-mile, 24- and 30-inch pipeline which extends from DTI's Hastings Extraction Plant in Wetzel County, WV to its terminus in Monroe County, OH, from a transmission function to a gathering function. The details of the request are more fully set forth in the application, which is on file with the Commission and open to public inspection. This filing may also be viewed on the web at http://www.ferc.gov using the “eLibrary” link. Enter the docket number excluding the last three digits in the docket number field to access the document. For assistance, contact FERC at FERCOnlineSupport@ferc.gov or call toll-free, (886) 208-3676 or TYY, (202) 502-8659.

Any questions regarding this application should be directed to Brad A. Knisley, Regulatory and Certificates Analyst III, Dominion Transmission, Inc., 701 East Cary Street, Richmond, VA 23219, or telephone (804) 777-4412, or facsimile (804) 771-4804 or e-mail Brad.A.Knisley@dom.com.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests, and interventions via the Internet in lieu of paper. See 18 CFR 385.2001(a)(1)(iii) and the instructions on the Commission's Web site http://www.ferc.gov under the “e-Filing” link. Persons unable to file electronically should submit an original and 14 copies of the protest or intervention to the Federal Energy regulatory Commission, 888 First Street, NE., Washington, DC 20426.

Comment Date: December 29, 2010.

Kimberly D. Bose,
Secretary.

[FR Doc. 2010-31257 Filed 12-13-10; 8:45 am]

BILLING CODE 6717-01-P